ENVIRONMENTAL PROTECTION AGENCY

[FRL-8556-5; Docket ID No. EPA-HQ-ORD-2008-0048]

Draft Toxicological Review of 2-Hexanone: In Support of the Summary Information in the Integrated Risk Information System (IRIS)

AGENCY: Environmental Protection Agency (EPA).

ACTION: Notice.

SUMMARY: EPA is announcing that Versar, Inc., an EPA contractor for external scientific peer review, will convene an independent panel of experts and organize and conduct an external peer-review meeting to review the external review draft document titled, “Toxicological Review of 2-Hexanone: In Support of Summary Information on the Integrated Risk Information System (IRIS)” (NCEA-S-2764). EPA previously announced the 60-day public comment period (ending April 28, 2008) for the draft document in the Federal Register on March 4, 2008 (73 FR 11408). EPA will consider public comments and recommendations from the expert panel meeting as EPA finalizes the draft document.

The public comment period and the external peer-review meeting are separate processes that provide opportunities for all interested parties to comment on the document. EPA intends to forward public comments submitted in accordance with Federal Register (73 FR 11408) to Versar, Inc., for consideration by the external peer-review panel prior to the meeting.

EPA is releasing this draft document solely for the purpose of pre-dissemination peer review under applicable information quality guidelines. This document has not been formally disseminated by EPA. It does not represent and should not be construed to represent any Agency policy or determination.

Versar, Inc., invites the public to register to attend this meeting as observers. In addition, Versar, Inc., invites the public to give brief oral comments at the meeting regarding the draft document under review. The draft document and EPA's peer-review charge are available via the Internet on the National Center for Environmental Assessment's (NCEA) home page under the Recent Additions and the Data and Publications menus at http://www.epa.gov/ncea. When finalizing the draft document, EPA intends to consider Versar's report of the comments and recommendations from the external peer-review meeting and any public comments that EPA receives in accordance with 73 FR 11408, March 4, 2008. Public comments that were submitted during the 60-day public comment period ending April 28, 2008 may be observed at http://www.regulations.gov under Docket ID No. EPA-HQ-ORD-2008-0048.

DATES: The peer-review panel meeting will begin on May 22, 2008, at 9 a.m. and end at 5 p.m. Register by May 16, 2008, if you wish to provide brief oral comments at the meeting.

ADDRESSES: The peer-review meeting will be held at the Courtyard by Marriott Crystal City, 2899 Jefferson Davis Highway, Arlington, VA 22202. Versar, Inc., is organizing, convening, and conducting the peer-review meeting. To attend the meeting, register by May 16, 2008, via the Internet at http://epa.versar.com/2hexanone/.

The draft “Toxicological Review of 2-Hexanone: In Support of Summary Information on the Integrated Risk Information System (IRIS)” is available via the Internet on the National Center for Environmental Assessment's (NCEA) home page under the Recent Additions and the Data and Publications menus at http://www.epa.gov/ncea. A limited number of paper copies are available from the Information Management Staff, NCEA; telephone: 703-347-8561; facsimile: 703-347-8691. If you are requesting a paper copy, please provide your name, mailing address, and the document title. Copies are not available from Versar, Inc.

FOR FURTHER INFORMATION CONTACT: For information on the peer review meeting, contact Stephanie Sarraino, Versar, Inc.; telephone: 703-750-3000 ext. 316; e-mail: ssarraino@versar.com.

If you have questions about the document, contact Amanda S. Persad, IRIS Staff, National Center for Environmental Assessment (B-243-01), U.S. EPA, Research Triangle Park, NC, 27711; telephone: 919-541-9781; facsimile: 919-541-1818; e-mail: persad.amanda@epa.gov.

SUPPLEMENTARY INFORMATION:

I. Summary of Information About the Integrated Risk Information System (IRIS)

IRIS is a database that contains potential adverse human health effects information that may result from chronic (or lifetime) exposure to specific chemical substances found in the environment. The database (available on the Internet at http://www.epa.gov/iris) contains qualitative and quantitative health effects information for more than 500 chemical substances that may be used to support the first two steps (hazard identification and dose-response evaluation) of a risk assessment process. When supported by available data, the database provides oral reference doses (RfDs) and inhalation reference concentrations (RfCs) for chronic health effects, and oral slope factors and inhalation unit risks for carcinogenic effects. Combined with specific exposure information, government and private entities can use IRIS data to help characterize public health risks of chemical substances in a site-specific situation and thereby support risk management decisions designed to protect public health.

II. Meeting Information

Members of the public may attend the meeting as observers, and there will be a limited time for oral comments from the public. Please let Versar, Inc. know if you wish to make comments during the meeting by registering on the Web site at http://epa.versar.com/2hexanone/ and indicating your intent to make oral comments. Space is limited, and reservations will be accepted on a first-come, first-served basis.

Dated: April 15, 2008.
Peter W. Preuss,
Director, National Center for Environmental Assessment.

[FR Doc. E8-8797 Filed 4-22-08; 8:45 am]

BILLING CODE 6560-50-P